DEPARTMENT OF THE TREASURY

Office of the Secretary

31 CFR Part 1

RIN 1505-AC22

Office of the Special Inspector General for the Troubled Asset Relief Program; Privacy Act of 1974; Implementation

AGENCY: Departmental Offices, Treasury.

ACTION: Final rule.

SUMMARY: In accordance with the requirements of the Privacy Act of 1974, 5 U.S.C. 552a, the Department of the Treasury amends this part to exempt several systems of records maintained by the Office of the Special Inspector General for the Troubled Asset Relief Program (SIGTARP) from certain provisions of the Privacy Act.

DATES: Effective Dates: June 28, 2010.

FOR FURTHER INFORMATION CONTACT: Bryan Saddler, Chief Counsel, Office of the Special Inspector General for the Troubled Asset Relief Program, 1801 L St., NW., Washington, DC 20220, (202) 927-8938.

SUPPLEMENTARY INFORMATION: The Department of the Treasury published a notice of a proposed rule exempting five systems of records from provisions of the Privacy Act of 1974, as amended, on January 14, 2010, at 75 FR 2086. The Department also published the notices of the new systems of records in their entirety on January 14, 2010, at 75 FR 2188.

Under 5 U.S.C. 552a(j)(2), the head of a Federal agency may promulgate rules to exempt a system of records from certain provisions of 5 U.S.C. 552a if the system of records is “maintained by an agency or component thereof which performs as its principal function any activity pertaining to the enforcement of criminal laws, including police efforts to prevent, control, or reduce crime or to apprehend criminals, and the activities of prosecutors, courts, correctional, probation, pardon, or parole authorities, and which consists of (A) information compiled for the purpose of identifying individual criminal offenders and alleged offenders and consisting only of identifying data and notations of arrests, the nature and disposition of criminal charges, sentencing, confinement, release, and parole and probation status; (B) information compiled for the purpose of a criminal investigation, including reports of informants and investigators, and associated with an identifiable individual; or (C) reports identifiable to an individual compiled at any stage of the process of enforcement of the criminal laws from arrest or indictment through release from supervision.”

To the extent that these systems of records contain investigative material within the provisions of 5 U.S.C. 552a(j)(2), the Department of the Treasury has exempted the following systems of records from various provisions of the Privacy Act pursuant to 5 U.S.C. 552a(j)(2):

DO .220—SIGTARP Hotline Database.

DO .221—SIGTARP Correspondence Database.

DO .222—SIGTARP Investigative MIS Database.

DO .223—SIGTARP Investigative Files Database.

DO .224—SIGTARP Audit Files Database.

The exemption under 5 U.S.C. 552a(j)(2) for the above-referenced systems of records is from provisions 5 U.S.C. 552a (c)(3), (c)(4), (d)(1), (d)(2), (d)(3), (d)(4), (e)(1), (e)(2), (e)(3), (e)(4)(G), (e)(4)(H), (e)(4)(I), (e)(5), (e)(8), (f), and (g).

Under 5 U.S.C. 552a(k)(2), the head of a Federal agency may promulgate rules to exempt a system of records from certain provisions of 5 U.S.C. 552a if the system of records is “investigatory material compiled for law enforcement purposes, other than material within the scope of subsection (j)(2).” To the extent that these systems of records contain investigative material within the provisions of 5 U.S.C. 552a(k)(2), the Department of the Treasury has exempted the following systems of records from various provisions of the Privacy Act pursuant to 5 U.S.C. 552a(k)(2):

DO .220—SIGTARP Hotline Database.

DO .221—SIGTARP Correspondence Database.

DO .222—SIGTARP Investigative MIS Database.

DO .223—SIGTARP Investigative Files Database.

DO .224—SIGTARP Audit Files Database.

The exemption under 5 U.S.C. 552a(k)(2) for the above-referenced systems of records is from provisions 5 U.S.C. 552a(c)(3), (d)(1), (d)(2), (d)(3), (d)(4), (e)(1), (e)(4)(G), (e)(4)(H), (e)(4)(I), and (f).

As required by Executive Order 12866, it has been determined that this proposed rule is not a significant regulatory action, and therefore, does not require a regulatory impact analysis.

The regulation will not have a substantial direct effect on the States, on the relationship between the Federal Government and the States, or on the distribution of power and responsibilities among the various levels of government. Therefore, it is determined that this final rule does not have federalism implications under Executive Order 13132.

Pursuant to the requirements of the Regulatory Flexibility Act, 5 U.S.C. 601-612, it is hereby certified that these regulations will not significantly affect a substantial number of small entities. The final rule imposes no duties or obligations on small entities.

In accordance with the provisions of the Paperwork Reduction Act of 1995, the Department of the Treasury has determined that this final rule would not impose new record keeping, application, reporting, or other types of information collection requirements.

List of Subjects in 31 CFR Part 1

Privacy.

Part 1, Subpart C of Title 31 of the Code of Federal Regulations is amended as follows:

PART 1—[AMENDED]

1. The authority citation for part 1 continues to read as follows:

Authority: 5 U.S.C. 301 and 31 U.S.C. 321. Subpart A also issued under 5 U.S.C. 552, as amended. Subpart C also issued under 5 U.S.C. 552a, as amended.

2. Section 1.36 is amended as follows:

a. Paragraph (c)(1)(i) is amended by adding new entries for DO .220, .221, .222, .223, and .224 to the table in numerical order.

b. Paragraph (g)(1)(i) is amended by adding new entries for DO .220, .221, .222, .223, and .224 to the table in numerical order.

The additions to Sec. 1.36 read as follows:

§ 1.36 Systems exempt in whole or in part from provisions of 5 U.S.C. 522a and this part.

* * * * *

(c) * * *

(1) * * *

(i) * * *

Number | System name
* * * * *
DO .220 | SIGTARP Hotline Database.
DO .221 | SIGTARP Correspondence Database.
DO .222 | SIGTARP Investigative MIS Database.
DO .223 | SIGTARP Investigative Files Database.
DO .224 | SIGTARP Audit Files Database.
* * * * *

* * * * *

(g) * * *

(1) * * *

(i) * * *

Number | System name
* * * * *
DO .220 | SIGTARP Hotline Database.
DO .221 | SIGTARP Correspondence Database.
DO .222 | SIGTARP Investigative MIS Database.
DO .223 | SIGTARP Investigative Files Database.
DO .224 | SIGTARP Audit Files Database.
* * * * *

* * * * *

Dated: June 21, 2010.
Melissa Hartman,
Acting Deputy Assistant Secretary for Privacy, Transparency, and Records.

[FR Doc. 2010-15365 Filed 6-25-10; 8:45 am]

BILLING CODE 4810-25-P